DEPARTMENT OF VETERANS AFFAIRS

Personalized Career Planning and Guidance

AGENCY: Department of Veterans Affairs.

ACTION: Notice.

SUMMARY: The Department of Veterans Affairs (VA) announces its Educational and Career Counseling has been renamed Personalized Career Planning and Guidance (PCPG). The new name will enhance stakeholder recognition of counseling services provided under Chapter 36 and will support more effective program outreach and communication.

DATES: The changes were effective October 1, 2020.

FOR FURTHER INFORMATION CONTACT: Dean Greenlee, Chief, Personalized Career Planning and Guidance, Office of Transition and Economic Development, at 202-820-4051 or TED.VBACO@va.gov.

SUPPLEMENTARY INFORMATION: Effective October 1, 2020, VA changed the name of its Chapter 36 benefit provided under 38 U.S.C. 3697A from Educational and Career Counseling to PCPG. PCPG provides Service members, Veterans and eligible dependents with enhanced career counseling, assessments, education planning and guidance resources that are unique to the needs of each participant to set and achieve personal, career and education goals.

To enhance program awareness and utilization of counseling services provided under Chapter 36, the Veterans Benefits Administration (VBA) conducted human-centered design (HCD) research with Veterans and Service members to better understand their career and education needs and preferences related to the benefit. Through the HCD research, VBA identified program strengths, weaknesses, pain points and opportunities to better serve our eligible beneficiaries and better align Chapter 36 benefits with their values and ambitions.

The new name clarifies the type of benefits the program offers for eligible participants by emphasizing the right career and education counseling themes. This name change also is an important part of VBA's wider effort to support a more successful military-to-civilian transition. For more information about the PCPG program, please visit https://benefits.va.gov/transition/economic-development-home.asp.

Signing Authority

The Secretary of Veterans Affairs, or designee, approved this document and authorized the undersigned to sign and submit the document to the Office of the Federal Register for publication electronically as an official document of the Department of Veterans Affairs. Brooks D. Tucker, Assistant Secretary for Congressional and Legislative Affairs, Performing the Delegable Duties of the Chief of Staff, Department of Veterans Affairs, approved this document on January 8, 2021 for publication.

Luvenia Potts,
Regulation Development Coordinator, Office of Regulation Policy & Management, Office of the Secretary, Department of Veterans Affairs.

[FR Doc. 2021-01435 Filed 1-22-21; 8:45 am]

BILLING CODE 8320-01-P